DEPARTMENT OF HEALTH AND HUMAN SERVICES

Administration for Children and Families

Proposed Information Collection Activity; Child Care and Development Fund (CCDF) Tribal Annual Report—ACF-700 (0970-0430)

AGENCY: Office of Child Care; Administration for Children and Families; HHS.

ACTION: Request for public comment.

SUMMARY: The Administration for Children and Families (ACF) is requesting a three-year extension of the form ACF-700: Child Care and Development Fund (CCDF) Tribal Annual Report (OMB #0970-0430, expiration 11/30/2019) with changes.

DATES: Comments due within 60 days of publication. In compliance with the requirements of Section 3506(c)(2)(A) of the Paperwork Reduction Act of 1995, the Administration for Children and Families is soliciting public comment on the specific aspects of the information collection described above.

ADDRESSES: Copies of the proposed collection of information can be obtained and comments may be forwarded by emailing infocollection@acf.hhs.gov. Alternatively, copies can also be obtained by writing to the Administration for Children and Families, Office of Planning, Research, and Evaluation, 330 C Street SW, Washington, DC 20201, Attn: OPRE Reports Clearance Officer. All requests, emailed or written, should be identified by the title of the information collection.

SUPPLEMENTARY INFORMATION: Description: The Child Care and Development Fund (CCDF) Tribal Annual Report (ACF-700) requests Tribal Lead Agencies (TLAs) to provide annual Tribal aggregate information on services provided through the CCDF, which is required by CCDF regulations (45 FR parts 98 and 99). The revised ACF-700 report consists of an introductory section that provides program characteristics and two parts: (1) Administrative Data, and (2) Tribal Narrative. The content and format of the entire form have been revised to address Child Care and Development Block Grant (CCDBG) Act of 2014 changes and to reduce the reporting burden to TLAs.

Information from the ACF-700 will be included in the CCDF Report to Congress, as appropriate, and will be shared with TLAs to inform them of CCDF-funded activities.

Respondents: Tribal Governments.

Annual Burden Estimates:

Instrument | Total number of respondents | Total number of responses per respondent | Average burden hours per response | Total burden hours | Annual burden hours
ACF-700 | 138 (Tribes with small allocation) | 3 | 19 | 7,866 | 2,622
ACF-700 | 83 (Tribes with medium/large allocation) | 3 | 26 | 6,474 | 2,158

Estimated Total Annual Burden Hours: 4,780.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 42 U.S.C. 9857.

Mary B. Jones,
ACF/OPRE Certifying Officer.

[FR Doc. 2019-12782 Filed 6-17-19; 8:45 am]

BILLING CODE 4184-43-P